DEPARTMENT OF TRANSPORTATION

Federal Aviation Administration

[Summary Notice No. PE-2023-14]

Petition for Exemption; Summary of Petition Received; Rolls-Royce Deutschland Ltd & Co KG

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before May 25, 2023.

ADDRESSES: Send comments identified by docket number FAA-2023-0993 using any of the following methods:

• Federal eRulemaking Portal: Go to http://www.regulations.gov and follow the online instructions for sending your comments electronically.

• Mail: Send comments to Docket Operations, M-30, U.S. Department of Transportation (DOT), 1200 New Jersey Avenue SE, Room W12-140, West Building Ground Floor, Washington, DC, 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Michael H. Harrison, AIR-646, Federal Aviation Administration, 2200 S 216th St., Des Moines, WA 98198, phone and fax (206) 231-3368, email Michael.Harrison@faa.gov.

This notice is published pursuant to 14 CFR 11.85.

Issued in Washington, DC, on May 2, 2023.
Candace Keefe,
Acting Manager, Technical Writing Section.

Petition for Exemption

Docket No.: FAA-2023-0993.

Petitioner: Rolls-Royce Deutschland Ltd & Co KG.

Section(s) of 14 CFR Affected: § 33.27(c).

Description of Relief Sought: Harald Lackner on behalf of Rolls-Royce Deutschland Ltd & Co KG (RRD) is seeking relief from 14 CFR 33.27(c), which requires the highest overspeed that results from a complete loss of load on a turbine rotor, except as provided by paragraph (f) of this section, must be included in the overspeed conditions considered by paragraphs (b)(3)(i), (b)(3)(ii), and (b)(4) of this section, regardless of whether that overspeed results from a failure within the engine or external to the engine. The overspeed resulting from any other single failure must be considered when selecting the most limiting overspeed conditions applicable to each rotor. Overspeeds resulting from combinations of failures must also be considered unless the applicant can show that the probability of occurrence is not greater than extremely remote (probability range of 10−7 to 10−9 per engine flight hour).

Specifically, RRD is proposing the FAA grant relief to exclude the integral disc drive arm connecting the flange of the low pressure shaft to the stage 3 disc of the low pressure turbine rotor on the Model BR700-730B2-14 engine from failure consideration in determining the highest overspeed that would result from a complete loss of load on a turbine rotor.

[FR Doc. 2023-09649 Filed 5-4-23; 8:45 am]

BILLING CODE 4910-13-P